DEPARTMENT OF JUSTICE

Antitrust Division

Notice Pursuant to the National Cooperative Research and Production Act of 1993—ASTM International—Cement and Concrete Reference Laboratory

Notice is hereby given that, on September 14, 2004, pursuant to section 6(a) of the National Cooperative Research and Production Act of 1993, 15 U.S.C. 4301 et seq. (“the Act”), ASTM International—The Cement and Concrete Reference Laboratory (“CCRL”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: ASTM International—The Cement and Concrete Reference Laboratory, Gaithersburg, MD. The nature and scope of CCRL's standards development activities are: CCRL provides conformity assessment activities. CCRL is a National Institute of Standards and Technology (NIST) Research Associate Program sponsored by ASTM International. ASTM Committees C-1 on Cement and C-9 on Concrete and Concrete Aggregates provide programmatic oversight to CCRL. CCRL operates two programs that promote the quality of testing in construction materials laboratories. These are the (1) Laboratory Inspection and (2) Proficiency Sample programs which provide laboratories with a mechanism for determining the quality of their testing of hydraulic cement, Portland cement concrete and aggregates, steel reinforcing bars, pozzolans and masonry materials using ASTM International standards.

The Laboratory Inspection Program provides a laboratory with a comprehensive account of how its procedures, practices, equipment and facilities compare with ASTM standards requirements. The CCRL laboratory inspector checks critical equipment dimensions and operating characteristics; watches a technician demonstrate test procedures; and reviews the quality system when covered by appropriate ASTM standards.

The Proficiency Sample Programs are a means for a laboratory to monitor the quality of its testing between CCRL on-site assessments. The test procedures to be performed are taken from current ASTM specifications. The specified tests are performed and the results reported to the CCRL for review and evaluation.

For additional information, please contact Thomas B. O'Brien, Jr., General Counsel, ASTM International, 100 Barr Harbor Drive, West Conshohocken, PA 10428-2959, telephone no. (610) 832-9597, e-mail address tobrien@astm.org.

Dorothy B. Fountain,
Deputy Director of Operations, Antitrust Division.

[FR Doc. 04-23531 Filed 10-20-04; 8:45 am]

BILLING CODE 4410-11-M